DEPARTMENT OF TRANSPORTATION

Federal Aviation Administration

14 CFR Part 91

[Docket No. FAA-2006-25250; Notice No. 06-08]

RIN 2120-AI63

Special Awareness Training for the Washington, DC Metropolitan Area

AGENCY: Federal Aviation Administration (FAA), DOT.

ACTION: Notice of proposed rulemaking (NPRM).

SUMMARY: This proposed rule would require special awareness training for any person who flies under visual flight rules (VFR) within 100 nautical miles of the Washington, DC VHF omni-directional range/distance measuring equipment (DCA VOR/DME). This training program is provided by the FAA on its Web site and focuses primarily on training pilots on the procedures for flying in and around the Washington, DC Metropolitan Area Defense Identification Zone (ADIZ) and the Washington, DC Metropolitan Area Flight Restricted Zone (FRZ). The intended effect of this proposed rule is to reduce the number of unauthorized flights into the airspace of the Washington, DC Metropolitan Area ADIZ and FRZ through education of the pilot community.

DATES: Comments must be received on or before September 5, 2006. See the note in the “Comments Invited” section under SUPPLEMENTARY INFORMATION.

ADDRESSES: You may send comments identified by docket number using any of the following methods:

• DOT Docket Web site: Go to http://dms.dot.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: John D. Lynch, Certification and General Aviation Operations Branch, AFS-810, General Aviation and Commercial Division, Flight Standards Service, Federal Aviation Administration, 800 Independence Avenue, SW., Washington, DC 20591; telephone: (202) 267-3844 or (202) 267-8212; e-mail address: john.d.lynch@faa.gov.

SUPPLEMENTARY INFORMATION:

Comments Invited

Note: On August 4, 2005, the FAA proposed to codify current flight restrictions for certain aircraft operations in the Washington, DC, metropolitan area (70 FR 45250; Aug. 4, 2005). The comment period for that proposed rule closed on February 6, 2006. Today's NPRM is a separate action that would require special awareness training for any person who flies under visual flight rules (VFR) within 100 nautical miles of the Washington, DC VHF omni-directional range/distance measuring equipment (DCA VOR/DME). If the FAA receives comments on the August 4, 2005, proposal in response to this special awareness training NPRM, those comments will be treated as outside the scope of this rulemaking.

The FAA invites interested persons to participate in this proposed rulemaking by submitting written comments, data, or views. We also invite comments relating to the economic, environmental, energy, or Federalism impacts that might result from adopting as final the requirements in this interim rule. The most helpful comments reference a specific portion of the rule, explain the reason for any recommended change, and include supporting data. We ask that you send us two copies of written comments.

We will file in the docket all comments we receive, as well as a report summarizing each substantive public contact with FAA personnel concerning this interim rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register of April 11, 2000 (65 FR 19477-78) or you may visit http://dms.dot.gov.

Before acting on this proposal, we will consider all comments we receive on or before the closing date for comments. We will consider comments filed late if it is possible to do so without incurring expense or delay. We may change this proposed rule in light of the comments we receive.

If you want the FAA to acknowledge receipt of your comments on this proposed rule, include with your comments a pre-addressed, stamped postcard on which the docket number appears. We will stamp the date on the postcard and mail it to you.

Availability of Rulemaking Documents

You can get an electronic copy using the Internet by:

(1) Searching the Department of Transportation's electronic Docket Management System (DMS) Web page (http://dms.dot.gov/search);

(2) Visiting the FAA's Regulations and Policies Web page at http://www.faa.gov/regulations_policies; or

(3) Accessing the Government Printing Office's Web page at http://www.gpoaccess.gov/fr/index.html.

You can also get a copy by sending a request to the Federal Aviation Administration, Office of Rulemaking, ARM-1, 800 Independence Avenue SW, Washington, DC 20591, or by calling (202) 267-9680. Make sure to identify the docket number, notice number, or amendment number of this rulemaking.

Authority for This Rulemaking

The Department of Transportation (DOT) has the responsibility, under the laws of the United States, to develop transportation policies and programs that contribute to providing fast, safe, efficient, and convenient transportation (49 U.S.C. 101). The FAA is an agency of DOT. The Administrator of the FAA has broad authority to regulate the safe and efficient use of the navigable airspace (49 U.S.C. 40103). The Administrator also is authorized to issue air traffic rules and regulations to govern the flight of aircraft, the navigation, protection and identification of aircraft for the protection of persons and property on the ground, and for the efficient use of navigable airspace. Additionally, pursuant to 49 U.S.C. 40103(b)(3) the Administrator has the authority, in consultation with the Secretary of Defense, to “establish security provisions that will encourage and allow maximum use of the navigable airspace by civil aircraft consistent with national security.”

Background

In February 2003, the FAA, in consultation with the Department of Homeland Security and other Federal agencies, implemented a system of airspace control measures to protect against a potential threat to the Washington, DC Metropolitan Area. The dimensions of this protected airspace were determined after considering such factors as the speed of likely suspect aircraft, minimum launch time and the speed of intercept aircraft. After extensive coordination among Federal agencies, two airspace areas were implemented. The outer area, which closely mimics the current Washington Tri-area Class B airspace, is called an Air Defense Identification Zone (ADIZ) and requires identification of all flight operations within the airspace in order to ensure the security of protected ground assets. The inner and critical security area, called a Flight Restricted Zone (FRZ) is an approximate 15-nautical mile radius around the Washington VHF omni-directional range/distance measuring equipment (DCA VOR/DME) (38-51-07.512N/077-02-15.763W) where more stringent access procedures apply. The Washington, DC Metropolitan Area FRZ is part of the Washington, DC Metropolitan Area ADIZ.

Since its creation, there have been over 1,000 unauthorized flights (i.e., incursions) within the Washington, DC Metropolitan Area ADIZ. A few of these flights came so close to the Capitol and the White House that evacuation of these buildings and other Federal office buildings was required. Although all of the incursions were eventually determined to be inadvertent in nature, each incursion places an unnecessary burden on Federal, State, and local law enforcement resources. For instance, when an unauthorized aircraft penetrates restricted airspace, the FAA's air traffic controllers must divert necessary resources to monitor the aircraft's flight, alert security operations, and communicate information about the aircraft to appropriate military and law enforcement agencies. Several branches of the Federal Government, military and local law enforcement are forced to respond to the situation and needlessly expend effort in a situation that ultimately is determined not to have been a threat to our national security. The FAA is very concerned about these incursions. Recently, there have been several incidents where civilian aircraft have been intercepted by U.S. Customs Service helicopters and U.S. Air Force fighter airplanes for inadvertent flights within Washington, DC Metropolitan Area ADIZ.

In addition to the Washington, DC Metropolitan Area ADIZ, other Temporary Flight Restriction (TFR) areas have been established and continue to be established over certain cities and sensitive sites throughout the country. And, like the DC Metropolitan Area ADIZ, there have been inadvertent incursions into TFR airspace. The training required under this rulemaking will include information on not only the restricted airspace in the Washington, DC Metropolitan Area, but also restricted airspace throughout the country. In future FAA initiatives, we intend to increase all U.S. registered airmen's awareness and knowledge in flight operations and procedures in and around restricted airspace through modifying the content of our practical test standards, flight reviews, pilot proficiency checks, flight instructor renewals, and instrument proficiency checks.

Discussion of This Proposed Rule

The FAA is proposing to amend 14 CFR part 91 by adding a new § 91.161. Under the proposed rule, prior to flying Visual Flight Rules (VFR) within a radius of 100 nautical miles of the DCA VOR/DME, a pilot must have completed the Special Awareness Training for the Washington, DC Metropolitan Area. The FAA would require compliance 180 days from publication of the final rule. The training, which is currently available online through the FAA Safety website, focuses on how to avoid or operate safely within the Washington, DC Metropolitan Area ADIZ, Washington, DC Metropolitan Area FRZ, and special use/restricted airspace.

We believe that through training, the number of inadvertent incursions into the Washington, DC Metropolitan Area ADIZ could be reduced. According to the United States Government Accountability Office's (GAO) testimony before the U.S. House of Representatives' Committee on Government Reform (“Agency Resources Address Violations of Restricted Airspace, but Management Improvements are Needed”), “general aviation aircraft pilots accounted for about 88% of all violations of restricted U.S. airspace between September 12, 2001 and December 31, 2004.” In addition, GAO noted, “pilot error is the biggest contributor to restricted airspace violations.” Thus, to reduce the number of violations, we are proposing mandatory training to make pilots more aware of the location of restricted airspace and the procedures that must be followed to either avoid or operate in those areas.

Who Would Be Required to Receive This Training?

Any person who flies an aircraft under VFR within a radius of 100 nautical miles of the DCA VOR/DME would be required to receive the special awareness training required under § 91.161. Thus, this proposed rule would apply to any person operating an aircraft under VFR within a 100-nautical mile radius of the DCA VOR/DME, including all operations conducted under 14 CFR part 91, those for which an air carrier or an operating certificate may be issued under 14 CFR part 119 (for operations conducted under 14 CFR part 121 or 135), and those which may be conducted under part 125, 129, 133 or 137. Further, regardless of the type of pilot certificate held (e.g., sport, recreational, student, private, commercial or foreign) or where the flight originated (e.g., Virginia, California or even Canada), a person would be subject to the training requirement as a pre-condition to flying under VFR within 100 nautical miles of the DCA VOR/DME. Note this special awareness training would not be required for pilots who operate under instrument flight rules (IFR) within a 100-nautical mile radius of the DCA VOR/DME.

As previously noted, there have been over 1,000 unauthorized flights into the Washington, DC Metropolitan Area ADIZ since February 2003. To date, no criminal charges have been filed against any pilot. Of all the cases investigated, only one incursion was deemed deliberate. This led to the revocation of the pilot's certificate. We believe that the other incursions are a direct result of general aviation pilots under VFR flying off-course and not recognizing that they had entered restricted airspace without following proper procedure. Pilots, on the other hand, who fly under IFR are under the control of the FAA's Air Traffic Control system and, therefore, are under a controlled flight plan and routing that either allows them to enter the restricted airspace or avoid the airspace. Thus, at this time, we do not believe that requiring pilots who would fly under IFR within or near Washington, DC Metropolitan Area restricted airspace will address our immediate concern of reducing the number of inadvertent incursions into the Washington, DC Metropolitan Area ADIZ. The proposed rule consequently only would apply to persons flying aircraft under VFR within a 100-nautical mile radius of the DCA VOR/DME.

Would There Be Any Operations Excluded From the Requirements Under § 91.161?

Yes. We recognize there are certain operations that must be handled differently because of their importance to national security and safety and for the public interest. Historically, we have provided special consideration for operations by the U.S. Department of Defense/U.S. military and law enforcement and for approved aeromedical flights. The flight restrictions for the Washington, DC Metropolitan Area ADIZ and FRZ specifically exempt these types of operations from certain requirements otherwise applicable to aircraft entering the ADIZ and FRZ (see NOTAM FDC 3/2126). Furthermore, to our knowledge, none of the inadvertent incursions into the Washington, DC Metropolitan Area ADIZ has involved pilots conducting such operations. Consequently, under § 91.161(e), the FAA would exempt a person flying an aircraft in a U.S. Department of Defense/U.S. military or law enforcement operation, or for approved aeromedical assistance from the training requirements. This exclusion, however, only would apply if the person is flying on an official U.S. Department of Defense/U.S. military, law enforcement, or approved aeromedical operation. If the military pilot, law enforcement pilot, or aeromedical pilot exercised private pilot privileges under VFR within 100 nautical miles of the DCA VOR/DME, this special awareness training (under § 91.161) would be required.

Why Was the Distance of a “100 Nautical Miles Radius” of the DCA VOR/DME Selected?

After reviewing extensive data, we believe that only pilots flying within a 100-nautical mile radius of the DCA VOR/DME under VFR should be subject to the training requirement. Based on the statistics compiled, we determined that the majority of pilots who inadvertently entered the Washington, DC Metropolitan Area ADIZ had either originated their flight within this 100-nautical mile radius or their last point of departure was within this 100-nautical mile radius. Several alternatives were considered for who should complete the training, including subjecting only—(1) pilots residing in Virginia, Maryland, Pennsylvania, North Carolina, West Virginia and the District of Columbia; (2) pilots flying VFR over Virginia, Maryland, Pennsylvania, North Carolina, West Virginia and the District of Columbia; or (3) pilots that fly VFR within a 250 nautical mile radius of the Washington, DC Metropolitan Area ADIZ. We, however, believe that each of these alternatives is either overly broad or unduly complex.

The airspace 100 nautical miles from the DCA VOR/DME would not appear on the Washington, DC sectional aeronautical chart. Pilots, however, could easily plot the “training zone” on the appropriate sectional map(s) on their own. See Diagram 1. Further, we would provide a map that you could print through the FAA Safety Web site (http://www.faasafety.gov) for this course.

Would This Training Apply to Me if I Intended To Fly IFR but Cancelled My IFR Clearance and Proceeded VFR?

We recognize there may be instances when a pilot operating under IFR must cancel an IFR clearance and continue the flight under VFR. For example, a pilot may be flying under IFR within the 100-nautical mile radius of the DCA VOR/DME, but due to radio or instrument equipment problems, must cancel IFR clearance and proceed under VFR. Under that scenario, the failure to complete the special awareness-training program required under proposed § 91.161would not be a violation of the federal regulations. Additionally, in an in-flight emergency situation, the pilot in command could deviate from any rule under part 91 to the extent necessary to meet that emergency. See 14 CFR 91.3(b). The FAA, however, may investigate the situation and request that the pilot provide a written explanation for the deviation.

In contrast, if a pilot of his or her own volition cancelled the IFR clearance while operating within the 100-nautical mile radius of the DCA VOR/DME and proceeded VFR, then the requirements under § 91.161 would apply.

When Would I Have To Comply?

After a compliance date 180 days from effective date of the final rule, any person that flew within 100 nautical miles of the DCA VOR/DME under VFR would have to comply with the requirements of 14 CFR 91.161. We believe 180 days would be sufficient time for affected persons to complete the Washington, DC Metropolitan Area special awareness training program.

How Often Would This Training Be Required?

The proposed Washington, DC Metropolitan Area special awareness training would be a “one-time” obligation. Specifically, if this rule applied to you, you would only have to accomplish the special training course one time. However, we would encourage you to repeat the training when you feel you need to refresh your knowledge. In future initiatives we intend to ensure that all pilots receive recurrent training on flight procedures for operating in prohibited and restricted airspace, including the Washington, DC Metropolitan Area ADIZ and FRZ. We expect to accomplish this future training through additional training and testing during practical tests, flight reviews, pilot proficiency checks, flight instructor renewals, and instrument proficiency checks.

How and Where Would I Receive This Training?

Currently, the FAA is offering the “Washington, DC Metropolitan Airspace Training” on a voluntary basis via its online Web site. The online training is offered at the following FAA Safety Web site through “Online Courses”: http://www.faasafety.gov. If this proposed rule is adopted, this training will become mandatory.

Persons wishing to take the voluntary training via this FAA Safety Web site should enter http://www.faasafety.gov and follow these steps:

1. Enroll in the “Washington, DC Metropolitan Airspace Training” at http://www.faasafety.gov. (If you have already registered with http://www.faasafety.gov, sign in using your e-mail address and password and go to step 9 below.) When entering this FAA Safety Web site for the first time, you will need to register. To register, you must follow the following step-by-step procedure: Click on “Get Registered Here.”

2. You will next be requested to provide your e-mail address and to answer the question “Are you an airman with a current certificate?” (“You are NOT required to have a current certificate to register”) by checking the answer “yes” or “no.” (The following steps will assume that you are a certificated airman.) Next you should click the command “Continue.”

3. After clicking the command “Continue,” the screen will request you to input your last name (as it appears on your certificate) in the box “Your last name” and input your pilot certificate number in the box “Current Certificate Number.” Next you should click the command “Continue.”

4. After clicking the command “Continue,” the next screen will have the following announcement on it: “Your initial registration steps have been completed! Your account has been created with the faasafety.gov system and you have been assigned a temporary password to log into our system. Please check your e-mail for your password. You can then log in and begin setting up your notification preferences. Be sure to check any spam-blocking software to make sure that e-mail will be allowed to you from http://www.faasafety.gov. Thank you for participating in the FAA Safety Program.”

5. Once you check your e-mail for the password that was issued to you, you will log back onto the FAA Safety Web site at http://www.faasafety.gov to begin the “Washington, DC Metropolitan Airspace Training.”

6. To begin the “Washington, DC Metropolitan Airspace Training,” log on to the FAA Safety Web site at http://www.faasafety.gov by entering your e-mail address and newly issued password.

7. Upon entering your e-mail address and password and after clicking “Logon Now,” you will enter a screen that requests you to “Establish your Profile.” In establishing your profile, you will be asked to review and answer the boxes “Full Name/Company Name,” “Email Preference Type,” “New Desired Password,” and “Confirm New Password: and then click on the command “Continue.”

8. You will now be asked to set your personal preferences. This is done through a series of screens where you can select what kind of e-mail safety notifications and information you might like to receive, what ratings you might like safety information for, and the ability to change your password or e-mail information. Click “save” when finished at which time you will be taken to a verification page letting you know that your preferences have been saved.

9. On the left navigation bar, click “Aviation Learning Center.”

10. Click on “Online Courses.”

11. Click on “View the Course Catalog.”

12. Click on “Washington, DC Metropolitan Airspace Training” to begin the online training.

13. Click on “Register Now” which will register for the course and then take you to “My Courses” page where you can start the course or withdraw from the courses at anytime. This page also allows you to resume the course should you find a need to come back at a later time to finish, once you have started.

14. Throughout the training, test questions will appear at completion of each training module. The test questions must be answered correctly before the program will allow you to continue onto the next module of the training program. When you complete the last module and test questions of the training program, the program will announce on the screen, “Congratulations, you have successfully completed the FAA's Washington, DC Metropolitan Airspace Training.”

15. You should then print the Certificate of Training Completion and keep it for your records. If you are ever required to show evidence of having completed that special awareness training, the Certificate of Training Completion will satisfy this requirement. The Certificate of Training Completion will identify you by name; provide your pilot certificate number; and specify the date the training was completed. If you lose your Certificate of Training Completion, you can have one reissued to you by either accessing the http://www.faasafety.gov Web site, or (after providing appropriate identification) requesting a duplicate Certificate of Training Completion from your local Flight Standards District Office (FSDO). You will not have to repeat the training program.

If you should experience any problems with the FAA Safety Web site, you may contact the FAA's Region Safety Team Manager, (FAASTeam) at your jurisdictional FSDO for assistance. You can find locations of the FSDOs on the following Web site: http://www.faa.gov/about/office_org/field_offices/fsdo/.

Would My Name Be Kept on a National Registry of Persons Who Completed the Washington, DC Metropolitan Area Training?

The FAA would maintain a national registry of persons who completed our Washington, DC Metropolitan Area training. The registry would identify you by name and pilot certificate number.

How Much Would This Training Cost Me?

We would provide this training free of charge. Any person who has access to a personal computer and the Internet could receive this training. A person who does not own a personal computer should have access to a computer and the Internet through a local community library. However, if you do not have access to a computer, then you could complete the training free of charge by attending an FAA Safety Program Seminar presented by your local FSDO.

What Kind of Software Must I Have on My Computer To Take the Training Online?

Web Browser

Although most PC & MAC based browsers will be able to access the site, we recommend using Microsoft Internet Explorer 5.5 or above. IE 6.0 and above is preferred. The IE browser can be downloaded for free at: http://www.microsoft.com/windows/ie/downloads/critical/ie6sp1/default.asp.

You need to have JavaScript enabled and be able to accept cookies. These features are enabled by default. These settings can be modified by going to the advanced features under the Internet options tab. The http://www.faasafety.gov Web site uses browser “cookies” to record data needed to facilitate your online session and tracking of course completion.

You should also disable any popup blocking software that you might have running. Many such utilities allow you to specify which sites are allowed to use popup windows. Simply adding faasafety.gov to the allowed list of your utility should meet the needs for most functions that require popup windows.

Internet Connection

You need to have an Internet connection and have any firewall configured to allow access to the http://www.faasafety.gov Web site.

Screen Resolution

The site is best viewed at 1024×768 screen resolution and above; although 800×600 will meet the minimum requirements.

What Would Be the Subject Areas of the Training?

The training curriculum focuses on procedures for flying in and around the Washington, DC Metropolitan Area ADIZ and FRZ. The course consists of approximately 1 hour of aeronautical knowledge training. The training also includes an aeronautical knowledge test. The curriculum covers—

• Airspace Restrictions:

○ Washington, DC Metropolitan Area ADIZ (14 CFR part 99 subpart B).

○ Washington, DC Metropolitan Area FRZ.

○ Emergency air traffic rules (§ 91.139).

○ Temporary Flight Restrictions in the—

☐ Proximity of the Presidential and other parties (§ 91.141).

☐ Vicinity of disaster/hazard areas (§ 91.137).

☐ National disaster areas in the State of Hawaii (§ 91.138).

☐ Proximity of space flight operations (§ 91.143).

☐ Aerial demonstrations and major sporting events (§ 91.145).

☐ Special Security Instructions (§ 99.7).

• Obtaining Information About Airspace Restrictions

• Accessing the NOTAM System—Identification of the distribution mechanisms to alerting pilots about NOTAMs, including how to obtain information from the Direct User Access System (DUATS), FAA website, AOPA TFR sites

☐ Review of the NOTAMs Addressing the Washington, DC Metropolitan Area ADIZ and FRZ airspace:

○ Transpose NOTAM information to a sectional or terminal chart about the Washington, DC Metropolitan Area ADIZ and FRZ airspace.

○ Resources for interpreting NOTAM information into plain English and graphical representation about the Washington, DC Metropolitan Area ADIZ and FRZ airspace.

• Operating procedures in the Washington, DC Metropolitan Area ADIZ and FRZ airspace:

○ Flight plan requirements (for opening & closing flight plans) for flying in the Washington, DC Metropolitan Area ADIZ and FRZ airspace.

○ Flight plan filing procedures (e.g., no DUATS filing for Air Defense Identification Zone) for flying in the Washington, DC Metropolitan Area ADIZ and FRZ airspace.

○ Equipment requirements for flying in the Washington, DC Metropolitan Area ADIZ and FRZ airspace.

○ Communications requirements & procedures for flying in the Washington, DC Metropolitan Area ADIZ and FRZ airspace:

☐ Whom to contact;

☐ What to request from ATC;

☐ What to expect from ATC (phraseology, level of service).

○ Visual warning system and intercept procedures for the Washington, DC Metropolitan Area ADIZ and FRZ airspace.

○ Procedures for lost communications, electrical failure, transponder malfunction when flying in the Washington, DC Metropolitan Area ADIZ and FRZ airspace.

• Review of Transportation Security Administration (TSA) regulations that restrict access to the Washington, DC Metropolitan Area ADIZ and FRZ to those operators that have met the security requirements under TSA's DCA Access Standard Security Program (DASSP)

• Enforcement

• Common errors that may cause pilots to make inadvertent incursions into the Washington, DC Metropolitan Area ADIZ and FRZ airspaces:

○ Use of global positioning system (GPS) to avoid the Washington, DC Metropolitan Area ADIZ and FRZ airspace.

○ Belief that an authorization to fly in an Air Defense Identification Zone is a Class B clearance.

○ “Early rollover” to transponder code 1200 / VFR.

○ Unfamiliarity with filing an IFR flight plan en route to obtain an ATC clearance through the Washington, DC Metropolitan Area ADIZ and FRZ when having to avoid adverse weather conditions.

• The operational requirements set forth under § 91.161

When Would I Be Required To Show That I Have Completed This Special Awareness Training Program?

Upon request from a representative of the Administrator, an authorized representative of the National Transportation Safety Board, any Federal, State, or local law enforcement officer, or an authorized representative of the Transportation Security Administration, you would be required to provide documentation that showed that you completed the special awareness training course. A copy of your Certificate of Training Completion, which can be downloaded from the http://www.faasafety.gov Web site, will suffice. You would not need to carry the document with you, but you would be required to provide it to the requesting official in a reasonable time period.

Economic Evaluation Summary

Changes to Federal regulations must undergo several economic analyses. First, Executive Order 12866 directs that each Federal agency shall propose or adopt a regulation only upon a reasoned determination that the benefits of the intended regulation justify its costs. Second, the Regulatory Flexibility Act of 1980 requires agencies to analyze the economic impact of regulatory changes on small entities. Third, the Trade Agreements Act (19 U.S.C. 2531-2533) prohibits agencies from setting standards that create unnecessary obstacles to the foreign commerce of the United States. In developing U.S. standards, this Trade Act requires agencies to consider international standards and, where appropriate, to be the basis of U.S. standards. Fourth, the Unfunded Mandates Reform Act of 1995 (Public Law 104-4) requires agencies to prepare a written assessment of the costs, benefits, and other effects of proposed or final rules that include a Federal mandate likely to result in the expenditure by State, local, or tribal governments, in the aggregate, or by the private sector, of $100 million or more annually (adjusted for inflation).

In conducting these analyses, FAA has determined this proposed rule: (1) Has benefits that justify its costs, is a “significant regulatory action” as defined in section 3(f) of Executive Order 12866, and is “significant” as defined in DOT's Regulatory Policies and Procedures; (2) would not have a significant economic impact on a substantial number of small entities; (3) would not reduce barriers to international trade; and does not impose an unfunded mandate on State, local, or tribal governments, or on the private sector. These analyses, available in the docket, are summarized below.

Total Costs and Benefits of This Rulemaking

The FAA has determined that, from 2006 to 2015, the total cost of the proposed rule would be approximately $2.4 million ($2.3 million in present value terms). This total cost is composed of the value of time to persons who would be subject to the rule's training requirements and the costs to the government of implementing the rule. Over the 10-year period, the value of pilots' time would be approximately $2.1 million ($2.0 million in present value terms) and the cost to the government would be approximately $320,000 ($304,000 in present value terms).

There have been on average 331 inadvertent incursions per year into the Washington, DC Metropolitan Area ADIZ. According to the FAA's data on these inadvertent incursions, 5 percent resulted in aircraft interceptions, and there have been three evacuations of Federal office buildings in the last 5 years. Based on this history, the FAA performed a Monte Carlo simulation to assess the total costs of building evacuations, aircraft interceptions, and government coordination that could be mitigated by the proposed rule. In the most probable range of outcomes, the FAA could expect between 2 and 10 evacuations during the next 10 years. This range of outcomes is estimated to cost between $4.4 million and $18.3 million. The mean of avoiding these costs, or the expected benefits of the proposed rule, would be approximately $11.0 million. Because there is no way to predict the effectiveness of the proposed rule, we need a 25% success rate in reducing the number of incursions, resulting in benefits of approximately $2.8 million, for this proposed rule to be cost-beneficial. As discussed below, over a 10-year period, the FAA has calculated the cost of this proposed rule to be $2.4 million ($2.3 million discounted), which is less than the aforementioned $2.8 million.

Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the RFA requires agencies to solicit and consider flexible regulatory proposals and to explain the rationale for their actions. The RFA covers a wide-range of small entities, including small businesses, not-for-profit organizations and small governmental jurisdictions.

Agencies must perform a review to determine whether a proposed or final rule will have a significant economic impact on a substantial number of small entities. If the agency determines that it will, the agency must prepare a regulatory flexibility analysis as described in the Act. However, if an agency determines that a proposed or final rule is not expected to have a significant economic impact on a substantial number of small entities, section 605(b) of the 1980 RFA provides that the head of the agency may so certify and a regulatory flexibility analysis is not required. The certification must include a statement providing the factual basis for this determination, and the reasoning should be clear.

The proposed rule would not have a significant impact on a substantial number of small entities. The FAA believes that the proposal's greatest impact would be on individuals (who are not considered as entities under RFA) flying VFR within 100 nm of the DCA VOR/DME. The proposed rule could have an impact on small entities that operate aircraft for business purposes. The FAA, however, expects such an impact to be minimal because the rule would apply only to pilots operating under VFR. In addition, most of those pilots also fly for personal reasons and therefore would need to complete the training for their own non-business-related flying. Consequently, the Administrator of the FAA certifies that the proposed rule would not have a significant economic impact on a substantial number of small entities. The FAA invites comments and requests that all comments be accompanied with clear and detailed supporting data.

International Trade Impact Assessment

The Trade Agreements Act of 1979 prohibits Federal agencies from engaging in any standards or related activities that create unnecessary obstacles to the foreign commerce of the United States. Legitimate domestic objectives, such as safety, are not considered unnecessary obstacles. The statute also requires consideration of international standards and where appropriate, that they be the basis for U.S. standards.

The FAA has assessed the potential effect of this proposed rule and has determined that it primarily would have an impact on domestic operations, although it could affect some international pilots. For example, there could be some Canadian pilots affected when they fly between Canada and the Southern United States. However, this rulemaking would have no impact on foreign firms that provide goods or services in the United States.

Unfunded Mandates Assessment

The Unfunded Mandates Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $128.1 million in lieu of $100 million.

This proposed rule does not contain such a mandate. The requirements of Title II do not apply.

Paperwork Reduction Act

An agency may not conduct or sponsor and a person is not required to respond to a collection of information unless it displays a currently valid Office of Management and Budget (OMB) control number.

This proposed rule would contain information collections that would be subject to review by OMB under the Paperwork Reduction Act of 1995 (44 U.S.C. 3507(d)). As required by the Paperwork Reduction Act of 1995 (44 U.S.C. 3507(d)), the FAA has submitted a copy of these sections to the Office of Management and Budget for its review.

Individuals and organizations may submit comments on the information collection requirement by September 5, 2006, and should direct them to the address listed in the ADDRESSES section of this document.

A description of the annual burden is shown below.

Description of Respondents: The FAA estimates that approximately 60,000 persons that fly under VFR within 100 nautical miles of the DCA VOR/DME would be affected by the proposed rule, and that the population of affected persons would grow by approximately 1.32 percent per year.

Estimated Burden: We assume that each person would spend 20 minutes taking the test, at a cost of time of $30.88 per hour. We estimate that the first-year cost would be $617,600 (60,000 persons × $30.88 per hour), and time spent during the first year would be 20,000 hours (60,000 persons × ⅓ hour). We estimate that in subsequent years, the per-year costs would be $8,574 (833 persons × $30.88 per hour), and time spent during subsequent years would be 277.67 hours (833 persons × ⅓ hour).

The total cost over 10 years is expected to be $694,766.00 ($617,600 + 9 × $8,574), with an average cost per year of $69,477 ($617,600 + 9 × $8,574)/10).

The total number of hours over 10 years is expected to be 22,499 hours (20,000 + 9 × 277.67), with an average cost per year of 2,250 hours (20,000 + 9 × 278)/10).

International Compatibility

In keeping with U.S. obligations under the Convention on International Civil Aviation, it is FAA policy to comply with International Civil Aviation Organization (ICAO) Standards and Recommended Practices to the maximum extent practicable. The FAA has determined that there are no ICAO Standards and Recommended Practices that correspond to these proposed regulations.

Environmental Analysis

FAA Order 1050.1E defines FAA actions that are categorically excluded from the preparation of an environmental assessment or environmental impact statement under the National Environmental Policy Act in the absence of extraordinary circumstances. The FAA has determined that this proposed rulemaking action qualifies for the categorical exclusion identified in paragraph 312f of FAA Order 1050.1E and involves no extraordinary circumstances.

Regulations That Significantly Affect Energy Supply, Distribution, or Use

The FAA has analyzed this proposed rule under Executive Order 13211, Actions Concerning Regulations that Significantly Affect Energy Supply, Distribution, or Use (May 18, 2001). The FAA has determined that this is not a “significant energy action” under the executive order because it is not a “significant regulatory action” under Executive Order 12866, and it is not likely to have a significant adverse effect on the supply, distribution, or use of energy.

List of Subjects in 14 CFR Part 91

Air traffic control, Aircraft, Airmen, Airports, Aviation Safety, Noise control, Reporting and recordkeeping requirements.

The Proposed Rule

In consideration of the foregoing, the Federal Aviation Administration proposes to amend chapter I of title 14 Code of Federal Regulations as follows:

PART 91—GENERAL OPERATING AND FLIGHT RULES

1. The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

2. Add § 91.161 to read as follows:

§ 91.161 Additional requirements for persons flying under visual flight rules within 100 nautical miles of the DCA VOR/DME.

(a) Except as provided under paragraph (d) of this section, no person may operate an aircraft within 100 nautical miles of the Washington, DC VHF omni-directional range/distance measuring equipment (DCA VOR/DME) under visual flight rules (VFR) without having completed the FAA's special awareness training course on flying in and around the Washington, DC Metropolitan Area.

(b) A person who is required by this section to have completed the special awareness training course on flying in and around the Washington, DC Metropolitan Area must present documentation that shows completion of the training course when requested to do so by:

(1) A representative of the Administrator;

(2) An authorized representative of the National Transportation Safety Board;

(3) Any Federal, State, or local law enforcement officer; or

(4) An authorized representative of the Transportation Security Administration.

(c) The failure to complete the special awareness training course on flying in and around the Washington, DC Metropolitan Area is not a violation of this section if an emergency is declared by the pilot, as described under § 91.3(b) of this part, or there was a failure of two-way radio communications when operating under IFR as described under § 91.185 of this part.

(d) If a person is conducting an aeromedical operation or an official flight for the U.S. Armed Forces or a law enforcement agency within the airspace of 100 nautical miles from the Washington, DC VHF omni-directional range/distance measuring equipment (DCA VOR/DME), the requirements of this section do not apply.

Issued in Washington, DC, on June 27, 2006.
John M. Allen,
Deputy Director, Flight Standards Service.

[FR Doc. 06-5997 Filed 7-3-06; 8:45 am]

BILLING CODE 4910-13-P